NUCLEAR REGULATORY COMMISSION

[Docket Nos. 50-250, and 50-251; NRC-2015-0011]

Florida Power & Light Company Turkey Point Nuclear Generating, Units 3 and 4

AGENCY: Nuclear Regulatory Commission.

ACTION: Director's decision; issuance.

SUMMARY: The U.S. Nuclear Regulatory Commission (NRC) has issued a director's decision with regard to a petition dated July 18, 2014, as supplemented on September 3, 2014, filed by Mr. Thomas Saporito (the petitioner), requesting that the NRC take action with regard to Turkey Point Nuclear Generating, Units 3 and 4. The petitioner's requests and the director's decision are included in the SUPPLEMENTARY INFORMATION section of this document.

ADDRESSES: Please refer to Docket ID NRC-2015-0011 when contacting the NRC about the availability of information regarding this document. You may obtain publicly-available information related to this document using any of the following methods:

• Federal Rulemaking Web site: Go to http://www.regulations.gov and search for Docket ID NRC-2015-0011. Address questions about NRC dockets to Carol Gallagher; telephone: 301-415-3463; email: Carol.Gallagher@nrc.gov.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if that document is available in ADAMS) is provided the first time that a document is referenced.

• NRC's PDR: You may examine and purchase copies of public documents at the NRC's PDR, Room O1-F21, One White Flint North, 11555 Rockville Pike, Rockville, Maryland 20852.

SUPPLEMENTARY INFORMATION: Notice is hereby given that the Director, Office of Nuclear Reactor Regulation, NRC has issued Director's Decision DD-15-10 (ADAMS Accession No. ML15237A181) for a petition filed by Mr. Thomas Saporito (the petitioner) on July 18, 2014, as supplemented on September 3, 2014 (ADAMS Package Accession No. ML14202A521).

The petitioner requested that the NRC take enforcement action against Florida Power & Light Company (the licensee) regarding the Turkey Point Nuclear Generating, Units 3 and 4. Specifically, the petitioner requested that the NRC suspend or revoke the licenses for Turkey Point, issue a violation with a civil penalty of $1 million, and issue a confirmatory order that the plant stays in a cold shutdown mode until the licensee completes (1) an independent assessment (through a contractor) to assess, fully understand, and correct the root cause of the rise in ultimate heat sink (UHS) temperature; (2) a comprehensive evaluation of all nuclear safety-related equipment and components that may have been affected; and (3) an independent evaluation of all nuclear safety-related equipment and components that may have been affected.

On September 3, 2015, the petitioner addressed the NRC's Petition Review Board by teleconference. The meeting provided the petitioner an opportunity to provide additional information and to clarify issues cited in the petition. The transcript for that meeting is available in ADAMS under Accession No. ML14266A123.

The NRC reviewed the petition, its supplements, and the transcripts from the meeting on September 3, 2014, and referred the request to the Director of the Office of Nuclear Reactor Regulation. By letter dated January 30, 2015 (ADAMS Accession No. ML14349A597), the Deputy Director determined that the petitioner's request that the NRC take enforcement action until the licensee completes an independent root cause assessment for the rise in UHS temperature met the criteria for review under the petition process. The Deputy Director determined that the other requests in the petition did not meet the criteria for review under the petition process.

By letters to the petitioner and licensee dated July 27, 2015 (ADAMS Accession Nos. ML15162B048 and ML15162B050, respectively), the NRC issued the proposed director's decision (ADAMS Accession No. ML15162B053) for comment. The petitioner and the licensee were asked to provide comments within 15 days on any part of the proposed director's decision that was considered to be erroneous or any issues in the petition that were not addressed. Comments were received from the petitioner by electronic mail dated August 5, 2015, and August 12, 2015 (ADAMS Accession Nos. ML15237A170 and ML15229B009, respectively) and are addressed in an attachment to the final director's decision.

The Director of the Office of Nuclear Reactor Regulation has denied the petitioner's request that the NRC take enforcement action until the licensee completes an independent root

cause assessment for the rise in UHS temperature. The reasons for this decision are explained in Director's Decision DD-15-10 pursuant to Section 2.206 of Title 10 of the Code of Federal Regulations (10 CFR) of the Commission's regulations.

The NRC will file a copy of the director's decision with the Secretary of the Commission for the Commission's review in accordance with 10 CFR 2.206. As provided by this regulation, the director's decision will constitute the final action of the Commission 25 days after the date of the decision unless the Commission, on its own motion, institutes a review of the director's decision in that time.

Rockville, Maryland, this 23rd day of September 2015.
For the Nuclear Regulatory Commission.
William M. Dean,
Director, Office of Nuclear Reactor Regulation.

[FR Doc. 2015-25126 Filed 10-1-15; 8:45 am]

BILLING CODE 7590-01-P